U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on February 17, 2026 on “India, China, and the Balance of Power in the Indo-Pacific.”

DATES: The hearing is scheduled for Tuesday, February 17, 2026 at 9:30 a.m.

ADDRESSES: Members of the public will be able to attend in person at or near the U.S. Capitol and adjacent Congressional office buildings (specific building and room number to be announced) or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the first public hearing the Commission will hold during its 2026 reporting cycle. The hearing will examine geopolitical and military issues pertaining to India's relations with both China and the United States, including tensions over disputed territory, maritime access in the Indian Ocean, and India's role as an Indo-Pacific power. Next, the hearing will explore the economic and technology dimensions of India-China relations, including trade and investment ties and India's efforts to build self-reliance in critical and emerging technology sectors like artificial intelligence, semiconductors, and pharmaceutical supply chains. The hearing will review U.S. policy efforts to enhance the strategic partnership with India, and implications of India's relations with China on vital U.S. economic and national security interests going forward.

The hearing will be co-chaired by Commissioner Hal Brands and Commissioner Jonathan N. Stivers. Any interested party may file a written statement by February 17, 2026 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 27, 2026.
Christopher P. Fioravante,
Deputy Executive Director, U.S.-China Economic and Security Review Commission.

[FR Doc. 2026-01847 Filed 1-29-26; 8:45 am]

BILLING CODE 1137-00-P